NUCLEAR REGULATORY COMMISSION

[Docket Nos. 50-387, 50-388, and 72-28; ASLBP No. 16-949-01-LT-BD01]

Susquehanna Nuclear, LLC; Establishment of Atomic Safety and Licensing Board

Pursuant to delegation by the Commission, see 37 FR 28,710 (Dec. 29, 1972), and the Commission's regulations, see 10 CFR 2.104, 2.105, 2.309, 2.313, 2.318, and 2.321, notice is hereby given that an Atomic Safety and Licensing Board (Board) is being established to preside over an appeal from the NRC Staff's denial of a request for access to sensitive unclassified non-safeguards information (SUNSI) in the following proceeding:

Susquehanna Nuclear, LLC (Susquehanna Steam Electric Station, Units 1 and 2)

This appeal arises from an “Order Imposing Procedures for Access to [SUNSI] and Safeguards Information for Contention Preparation” that was included as part of a Federal Register notice providing an opportunity to petition for leave to intervene in a hearing on the application for an indirect license transfer of the interests of Susquehanna Nuclear, LLC (SN), in the operating licenses of Susquehanna Steam Electric Station, Units 1 and 2 (SSES) and the general license for the SSES independent spent fuel storage installation from current SN parent holder Talen Energy Corporation to Riverstone Holdings, LLC. See 81 FR 68,462, 68,465 (Oct. 4, 2016). By email dated October 11, 2016, Mr. Sabatini Monatesti requested access to SUNSI material, and he supplemented the request with another email dated October 17, 2016. By letter dated October 20, 2016, the NRC Staff denied the requests. On October 23, 2016, Mr. Sabatini appealed the Staff's determination by sending an email directly to the NRR Staff. He repeated his appeal and supplemented it by two additional emails sent to all parties on October 24, 2016.

The Board is comprised of the following Administrative Judges:

William J. Froehlich, Chairman, Atomic Safety and Licensing Board Panel, U.S. Nuclear Regulatory Commission, Washington, DC 20555-0001

G. Paul Bollwerk, III, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.
Dated: October 26, 2016.
E. Roy Hawkens,
Chief Administrative Judge, Atomic Safety and Licensing Board Panel.

[FR Doc. 2016-26362 Filed 10-31-16; 8:45 am]

BILLING CODE 7590-01-P